DEPARTMENT OF HEALTH AND HUMAN SERVICES

Food and Drug Administration

Advisory Committees; Filing of Annual Reports

AGENCY: Food and Drug Administration, HHS.

ACTION: Notice.

SUMMARY: The Food and Drug Administration (FDA) is announcing that, as required by the Federal Advisory Committee Act, the agency has filed with the Library of Congress the annual reports of those FDA advisory committees that held closed meetings during fiscal year 2002.

ADDRESSES: Copies are available from the Dockets Management Branch (HFA-305), Food and Drug Administration, 5630 Fishers Lane, rm. 1061, Rockville, MD 20852, 301-827-6860.

FOR FURTHER INFORMATION CONTACT: Theresa L. Green, Advisory Committee and Oversight Management Staff (HF-4), Food and Drug Administration, 5600 Fishers Lane, Rockville, MD 20857, 301-827-1220.

SUPPLEMENTARY INFORMATION: Under section 13 of the Federal Advisory Committee Act (5 U.S.C. app.2) and 21 CFR 14.60(c), FDA has filed with the Library of Congress the annual reports for the following FDA advisory committees that held closed meetings during the period October 1, 2001 through September 30, 2002:

Center for Biologics Evaluation and Research:

Allergenic Products Advisory Committee,

Biological Response Modifiers Advisory Committee,

Blood Products Advisory Committee,

Transmissible Spongiform Encephalopathies Advisory Committee, and

Vaccines and Related Biological Products Advisory Committee.

Center for Drug Evaluation and Research:

Arthritis Drugs Advisory Committee,

Nonprescription Drugs Advisory Committee, and

Pulmonary-Allergy Drugs Advisory Committee.

Center for Food Safety and Applied Nutrition:

Food Advisory Committee.

Center for Devices and Radiological Health:

Medical Devices Advisory Committee (consisting of reports for the Circulatory System Devices Panel, Dental Products Panel, Ear Nose and Throat Devices Panel, Microbiology Devices Panel, Obstetrics Devices Panel, Ophthalmic Devices Panel, General and Plastic Surgery Devices Panel, Orthopedic and Rehabilitation Devices Panel).

National Center for Toxicological Research:

Science Advisory Board to the National Center for Toxicological Research.

Annual Reports are available for public inspections between 9 a.m. and 4 p.m., Monday through Friday at the following locations:

(1) The Library of Congress, Madison Bldg., Newspaper and Current Periodical Reading Room, 101 Independence Ave. SE., rm. 133, Washington, DC; and

(2) The Dockets Management Branch (HFA-305), Food and Drug Administration, 5630 Fishers Lane, rm. 1061, Rockville, MD 20852.

Dated: January 16, 2003.
Linda Arey Skladany,
Associate Commissioner for External Relations.

[FR Doc. 03-2294 Filed 1-30-03; 8:45 am]

BILLING CODE 4160-01-S